DEPARTMENT OF THE INTERIOR

Fish and Wildlife Service

[FWS-R9-EA-2008-N0241; 97600-9424-0000-7e]

TakeMeFishing.org Web Site Advertising Guidelines

AGENCY: U.S. Fish and Wildlife Service, Interior.

ACTION: Notice of availability of proposed guidelines; request for comments.

SUMMARY: The Recreational Boating & Fishing Foundation (RBFF) seeks to sell advertising on its TakeMeFishing.org Web site to help generate revenue from non-Federal funds to expand its outreach program. RBFF has drafted advertising guidelines to determine who can advertise and how the advertising sales will be operated; we invite the general public and other Federal agencies to take this opportunity to comment on these guidelines.

DATES: Your comments must be received or postmarked on or before November 4, 2008.

ADDRESSES: Send your comments on the proposed Web site advertising guidelines to RBFF Project Officer at 4401 N. Fairfax Drive, MS-3103 AEA, Arlington, VA 22203 (U.S. mail or hand delivery) or Mary_Burke@FWS.gov (e-mail).

FOR FURTHER INFORMATION CONTACT: RBFF Project Officer Mary_Burke@fws.gov (e-mail) or (703) 358-2435.

SUPPLEMENTARY INFORMATION: Recreational boating and fishing participation rates have declined over the past 5 years. Recreational boating and fishing related activities contribute to conserving aquatic resources through excise taxes collected from sales of fishing equipment and motorboat fuel that fund the Federal Aid in Sport Fish Restoration Program. This program, coupled with fishing license sales, makes up more than 80 percent of the funding for conservation and protection of aquatic resources in the United States. To address the declining participation of recreational boating and fishing, Congress passed the Sportfishing and Boating Safety Act of 1998, which called for Federal appropriations to be used for the National Outreach and Communication Program. The Sport Fishing and Boating Partnership Council developed the “Strategic Plan for the National Outreach and Communication Program,” and the Secretary of the Interior approved the Strategic Plan in February 1999.

RBFF is a nonprofit organization created to carry out the National Outreach and Communication Program, whose mission is to increase participation in recreational angling and boating and, through those experiences, increase the public's awareness of and appreciation for the need for conserving and protecting America's aquatic natural resources. RBFF is funded through the Sport Fish Restoration and Boating Trust Fund. This fund is composed of Federal taxes collected on the sale of motorboat fuel and of excise taxes paid by manufacturers of fishing tackle. The U.S. Fish and Wildlife Service (Service) administers RBFF's funding via a cooperative agreement between the Service and RBFF, in the form of a Memorandum of Understanding signed by the Service, the Sport Fishing and Boating Partnership Council, the Association of Fish and Wildlife Agencies, and RBFF.

The plan, which RBFF was created to implement, specifically calls for the implementing organization not to be operated as a “grants-in-aid” organization. The plan also calls for RBFF to “create an industry `hard dollar' fund mechanism to promote, extend and expand the outreach program.” In response, RBFF seeks to sell advertising on its TakeMeFishing.org Web site to generate revenue from non-Federal funds to expand its outreach program. RBFF has drafted advertising guidelines to determine who can advertise and how the advertising sales will be operated.

Request for Comments

The U.S. Fish and Wildlife Service is seeking public comment on the draft RBFF advertising guidelines. Comments submitted in response to this notice are a matter of public record. Before including your address, phone number, e-mail address, or other personal identifying information in your comment, you should be aware that your entire comment—including your personal identifying information—may be made publicly available at any time. While you may request that we withhold your personal identifying information from public review, we cannot guarantee that we will be able to do so.

TakeMeFishing.org Proposed Advertising Guidelines

The Recreational Boating & Fishing Foundation (RBFF) strives to make TakeMeFishing.org a valuable resource for its audiences, therefore the user experience is the core of the Web site. This experience is continually reinforced by its distinct look and feel, functionality, personality, and utility. Thus everything that exists within TakeMeFishing.org should conform and contribute to the overall user experience, including the advertising.

Advertising Philosophy

RBFF is committed to protecting our user experience by keeping the site clean, uncluttered, and free from intrusive advertising. We strive to ensure the use of appropriate and tailored messages on our Web site that are based on specific boating and fishing interests and affiliated with the brands, organizations, and businesses that our users value.

RBFF provides the following guidelines to help you communicate more effectively with your desired audience. Please note that all advertising placed within TakeMeFishing.org must adhere to these guidelines, and RBFF reserves the right to reject any advertising that we deem contrary to our advertising philosophy or these guidelines. These guidelines are also subject to change at any time.

These guidelines are not intended as legal advice, but are a general statement of RBFF's advertising standards. RBFF encourages each advertiser and its agency to consult with legal counsel before seeking to place any display advertising on TakeMeFishing.org. Adherence to these guidelines (a) does not guarantee acceptance of display advertising content for insertion on TakeMeFishing.org, and (b) is not necessarily sufficient to meet the standards of local, State, or Federal laws.

Note: In addition to the guidelines below, all advertising on TakeMeFishing.org must comply with our Privacy Policy (at http://www.takemefishing.org/general/privacy-policy) and Disclaimer (at http://www.takemefishing.org/general/disclaimer).

1. Content restrictions:

We do not accept advertising from entities debarred or suspended from doing business with the Federal Government (http://www.epls.gov/). In addition, we do not accept advertising referencing, facilitating, or promoting the following:

• Liquor, beer, or wine.

• Tobacco products.

• Adult or dating sites with a sexual emphasis.

• Medical or pharmaceutical products and services.

• Drugs or drug paraphernalia.

• Adult products, including adult films, magazines, Web sites, toys, or physical/sexual enhancement products.

• Gambling or gambling portals and educational sites, including without limitation, any online casino, sports books, bingo, or poker.

• Lotteries (other than official State lotteries sponsored by a U.S. State, e.g., Illinois State Lottery).

• Inflammatory religious content.

• Politically religious agendas and/or any known associations with hate, criminal, and/or terrorist activities.

• Political content, political agendas, or political issues for commercial use.

• Hate speech, whether directed at an individual or a group, and whether based upon the race, sex, creed, national origin, religious affiliation, marital status, sexual orientation, or language of such individual or group.

• Web cams or surveillance equipment.

• Web-based non-accredited colleges that offer degrees.

• Ringtones.

• Software downloads, freeware, or shareware.

• Scams, illegal activity, and/or illegal contests, pyramid schemes, or chain letters.

• Loan products that require upfront fees.

2. Advertising language and image content:

• Provocative images will not be accepted.

• Advertising images may not contain, facilitate, or promote adult content, including nudity, sexual terms, or activities that are excessively suggestive or sexual.

• Advertisements may not contain, facilitate, or promote offensive, profane, vulgar, obscene, or inappropriate language.

• Advertisements may not contain, facilitate, or promote defamatory, libelous, slanderous, and/or unlawful content.

3. Copy representation:

• Advertising copy must directly relate to the content on the landing page to which it links.

• Advertising copy must clearly state and represent the company, product, or brand that is being advertised.

4. Copyrights and trademarks:

• Advertisements must not include any content that may be deemed as infringing upon the rights of any third party, including copyright, trademark, privacy, publicity, or other personal or proprietary right, or that is deceptive or fraudulent.

• Advertiser must have intellectual property rights to the advertising copy and images and be permitted to display such copy and images as advertising on TakeMeFishing.org.

5. Downloads:

• No advertisement is permitted to contain a link, whether directly or indirectly, to a site that contains software downloads, freeware, or shareware.

• No advertisement is permitted to facilitate or promote (or contain a link to a site that facilitates or promotes):

(1) Collection of demographic and usage information from a user's computer without the user's expressed consent;

(2) Collection or request of usernames or passwords from any user;

(3) Proxying user names or passwords for the purpose of automating logins to the TakeMeFishing.org Community network;

(4) Any software that (i) “sneaks” onto a user's system and performs activities hidden to the user; (ii) may alter, harm, disable or replace any hardware or software installed on the user's computer without express permission from the user; (iii) is bundled as a hidden component of other software whether free or for fee; (iv) automatically downloads without RBFF's express prior approval; (v) presents any download dialog boxes without a user's expressed action; or (vi) may violate or infringe upon the intellectual property rights of any third party, including copyright, trademark, patent, or any other proprietary right.

6. Grammar, spelling, and capitalization:

• Advertising copy must be in logical sentence form and contain grammatically correct spacing.

• Advertisements must use correct spelling.

• Advertisements may not include unnecessary capitalization (such as “FREE”). Acronyms may be capitalized.

• Advertisements may not include excessive repetition.

7. Incentives:

• No advertisement may offer incentives to viewers for submitting personal information (cell phone numbers, social security numbers, physical addresses, or e-mail addresses), or for performing any other related tasks.

8. Landing pages/Destination URLs:

• Advertisements that contain a URL or domain in the copy must link to that same URL or domain.

• All users must be sent to the same landing page when an advertisement is clicked.

• The advertiser's landing page must match the offer being made in the advertisement and must provide detailed disclosures as appropriate; in particular, full terms and conditions of the offer must be easily accessible.

• Landing pages that generate a pop-up (including “pop-overs” and “pop-unders”) when a user enters or leaves the page are not allowed.

• Advertisements cannot use “fake” close behavior (i.e., when a user clicks the “close” icon on the page, the page should close down and no other behavior should result).

• Advertisements cannot utilize “mouse trapping” whereby the advertiser does not allow users to use their browser “back button” and traps them on their site and/or present additional/unexpected behavior (for example: another advertisement or page).

• No advertisement may require viewers clicking on the advertisement to submit personal information (cell phone numbers, physical addresses, or e-mail addresses) on the landing page in order to obtain the information promoted in the advertisement.

• A secure server connection (https) must be used when collecting personal information from users.

9. Prices, discounts, and free offers:

• No advertisement may be deceptive or fraudulent about any offer it makes.

• If an advertisement includes a price, discount, or “free” offer, the destination URL that is referenced must link to a page that clearly and accurately offers the exact deal displayed in the advertisement.

• If an advertisement includes a price, discount, or “free” offer, the advertisement must clearly state what action or set of actions is required to qualify for the offer.

10. Punctuation and symbols:

• The use of all symbols, numbers, or letters must adhere to the true meaning of the symbol.

• Repeated and unnecessary punctuation or symbols is not permitted.

• Symbols may not be used to substitute for letters (e.g., “$ave” instead of “save”).

11. Rich Media advertisements:

• All rich media advertisements, including third-party advertisements, must be operationally tested prior to submission for placement on TakeMeFishing.org.

• HTML sniffer code must be implemented in order to detect whether a user's browser is capable of displaying the Shockwave Flash file. A backup banner should be displayed if the user cannot accept Shockwave Flash and is required for all rich media advertisements.

• A banner may not produce audio without user initiation. Once audio begins, there must be a clear “pause” or “stop” button.

• An advertisement may not display false functionality or contain graphics that simulate interactivity where no such interactivity exists.

12. Spam:

• No advertisement may contain, facilitate or promote “spam” or other advertising or marketing content that violates applicable laws, regulations, or industry standards.

13. Take Me Fishing references:

• Advertisements are not permitted to mention or refer to TakeMeFishing.org, its site, or its brand in any manner, including in the title, body, image, or destination URLs.

• Advertisements must not use Take Me Fishing™ logos, trademarks, or site terminology (including Anglers' Legacy and other RBFF graphics, logos, designs, or icons).

• TakeMeFishing.org site features may not be emulated.

Advertiser Responsibilities

It is the advertiser's responsibility to ensure that:

• All advertising it seeks to place on TakeMeFishing.org complies with all applicable Federal, State, and local laws or regulations;

• An advertisement does not violate the intellectual property rights of third parties;

• Offers included in any advertising message include all material terms that an ordinary person would require in making an informed decision about whether to purchase the product or service being offered;

• All claims made in an advertisement have been substantiated before the advertisement is scheduled to appear on TakeMeFishing.org;

• Advertising that includes warranties, guarantees, or other types of assurances to the user complies with all applicable laws, regulations, or guidelines regarding such assurances, including but not limited to those set forth by the Federal Trade Commission (“FTC”); and

• Users are not deceived into providing personal information without the user's knowledge, under false pretenses, or to companies who resell, trade, barter, or otherwise misuse that personal information.

RBFF Rights

RBFF reserves the right, but is not under any obligation to:

• Review or request changes to any advertisement scheduled for insertion on TakeMeFishing.org;

• Accept, retract, or reject, at any time, any advertisement submitted for placement on TakeMeFishing.org, in its sole discretion, whether on the basis of these guidelines, advertising format, targeting criteria, or for any other reason;

• Review any advertisement to determine the appropriateness of the advertisement for the TakeMeFishing.org user audience; or

• Modify these guidelines or their standards governing advertising on TakeMeFishing.org at any time without notice.

Specifically, RBFF reserves the right to reject or retract, at any time, any advertising deemed to, in RBFF's sole opinion:

• Be misleading, deceptive, false, or untrue;

• Use “bait and switch” tactics, i.e., advertising that promotes an unavailable product, service, or price as a means of luring the user into purchasing a different product;

• Promote or glorify violence, crime, obscenity, the illegal use of weapons, or to provide instructions on how to “get away” with crimes or unlawful activity;

• Promote stereotypes, or inaccurately portray or attack an individual or group on the basis of age, color, national origin, race, religion, sex, sexual orientation, or handicap;

• Be offensive or disturbing to users of TakeMeFishing.org, or likely to cause outrage, general disapproval, or negative opinion within the community; or

• Portray minors (or persons who, in RBFF's opinion, appear to be underage) in a manner that is sexually suggestive or otherwise age-inappropriate.

Dated: September 24, 2008.
Rowan W. Gould,
Acting Director.

[FR Doc. E8-24850 Filed 10-17-08; 8:45 am]

BILLING CODE 4310-55-P